DEPARTMENT OF COMMERCE

International Trade Administration

International Buyer Program; Support for Domestic Trade Shows

AGENCY: International Trade Administration, Department of Commerce.

ACTION: Notice.

SUMMARY: The International Buyer Program of the Department of Commerce, which invited interested trade show organizer/sponsoring organizations to apply for inclusion on the program calendar for Fiscal Year 2002 (October 1, 2001 through September 30, 2002) allowed applications by e-mail for the first time this year. The application period, which began with publication of the Federal Register Notice on June 27, 2000, ended officially on August 11, 2000. Regrettably, the computer servers and e-mail communication system upon which the program depends failed to perform from August 9 through August 11, 2000. While a number of prospective applicants communicated their difficulties in applying owing to our communication system failure, some additional prospective applicants may have also been prevented from doing so. Organizers who were unable to communicate their application to the program should provide us a written statement that the organizer attempted to apply electronically during the period of computer/communications failure (August 9-11, 2000). The organizer should also resubmit a copy of its application and we will deem it to have been submitted during the competitive period.

FOR FURTHER INFORMATION CONTACT: Jin Boney at the Department of Commerce. Telephone number 202-482-0146 or FAX 202-482-0115 or via E-mail at jim.boney@mail.doc.gov

Dated: August 25, 2000.
John Klingelhut,
Director, Office of Private/Public Initiatives.

[FR Doc. 00-22199 Filed 8-29-00; 8:45 am]

BILLING CODE 3510-FP-P